FEDERAL COMMUNICATIONS COMMISSION

47 CFR Part 73

[DA 04-3704; MB Docket No. 04-338, RM-11061]

Radio Broadcasting Service; Nevada City, CA

AGENCY: Federal Communications Commission.

ACTION: Final rule.

SUMMARY: The Audio Division, at the request of Dana J. Puopolo, allots Channel 297A at Nevada City, California, as the community's first FM commercial broadcast service. See 69 FR 54612, published September 9, 2004. Channel 297A can be allotted to Nevada City in compliance with the Commission's minimum distance separation requirements, provided there is a site restriction of 4.5 kilometers (2.8 miles) north of the community. The reference coordinates for Channel 297A at Nevada City are 39-18-00 North Latitude and 121-00-00 West Longitude. A filing window for Channel 297A at Nevada City, California will not be opened at this time. Instead, the issue of opening a filing window for this channel will be addressed by the Commission in a subsequent order.

DATES: Effective January 18, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 04-338, adopted December 1, 2004, and released December 3, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under California, is amended by adding Nevada City, Channel 297A.

Federal Communications Commission.
John A. Karousos,
Assistant Chief, Audio Division, Media Bureau.

[FR Doc. 04-27793 Filed 12-17-04; 8:45 am]

BILLING CODE 6712-01-P